DEPARTMENT OF THE TREASURY

Internal Revenue Service

26 CFR Part 1

[TD 9562]

RIN 1545-BH77

Conduit Financing Arrangements; Correction

AGENCY: Internal Revenue Service (IRS), Treasury.

ACTION: Correcting amendment.

SUMMARY: This document contains a correction to final regulations (TD 9562) that were published in the Federal Register on Friday, December 9, 2011 (76 FR 76895) providing guidance on conduit financing arrangements. The final regulations apply to multiple-party financing arrangements that are effected through disregarded entities, and are necessary in order to determine which of those arrangements should be recharacterized as a conduit financing arrangement.

DATES: This correction is effective on April 16, 2012 and is applicable on December 9, 2011.

FOR FURTHER INFORMATION CONTACT: Quyen P. Huynh, (202) 622-3880 (not a toll-free number).

SUPPLEMENTARY INFORMATION:

Background

The final regulation (TD 9562) that is the subject of this correction is under section 881 of the Internal Revenue Code.

Need for Correction

As published, TD 9562 contains errors that may prove to be misleading and is in need of clarification.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

§ 1.881-3 [Amended]

Par. 2. For each entry in the table in the “Section” column, remove the language in the “Remove” column and add in its place the language in the “Add” column as set forth below:

Section | Remove | Add
Last sentence of paragraph (a)(2)(i)(A) | Examples 1, 2, 3 | Examples 1, 2, 3 and 4.
Last sentence of paragraph (a)(2)(i)(B) | Examples 4 and 5 | Examples 5 and 6.
Last sentence of paragraph (a)(3)(ii)(E)(2)(ii) | Example 6 | Example 7.
Last sentence of paragraph (a)(4)(ii)(B) | Examples 7 and 8 | Examples 8 and 9.
Last sentence of paragraph (b)(1) | Examples 11 and 12 | Examples 12 and 13.
Last sentence of paragraph (b)(2)(i) | Examples 13, 14 and 15 | Examples 14, 15 and 16.
Last sentence of paragraph (b)(2)(iii) | Example 16 | Example 17.
Last sentence of paragraph (b)(2)(iv) | Example 17 | Example 18.
Last sentence of paragraph (b)(3)(i) | Examples 21, 22 and 23 | Examples 22, 23 and 24.
Last sentence of paragraph (d)(1)(i) | Example 24 | Example 25.
Next to last sentence of paragraph (d)(1)(ii)(A) | Example 25 | Example 26.
Paragraph (e), Example 21, paragraph (i) | Example 19 | Example 20.
Paragraph (e), Example 21, paragraph (ii) | Example 20 | Example 21.
Paragraph (e), Example 23, paragraph (i) | Example 21 | Example 22.
Paragraph (e), Example 24, paragraph (i) | Example 21 | Example 22.

Treena V. Garrett,
Federal Register Liaison, Publications and Regulations Branch, Legal Processing Division, Associate Chief Counsel, (Procedure and Administration).

[FR Doc. 2012-8993 Filed 4-13-12; 8:45 am]

BILLING CODE 4830-01-P